DEPARTMENT OF LABOR

Agency Information Collection Activities; Submission for OMB Review; Comment Request; Evaluation the Accessibility of American Job Centers for People With Disabilities

AGENCY: Office of the Assistant Secretary for Policy/Chief Evaluation Office, DOL.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addresses section of this notice.

DATES: Written comments must be submitted to the office listed in the addresses section below on or before November 4, 2013.

ADDRESSES: You may submit comments by either one of the following methods: Email: horne.richard@dol.gov; Mail or Courier: Office of Disability Employment Policy, Room S-1303, 200 Constitution Avenue NW., Washington, DC 20210, Attention: Richard Horne, Director, Division of Policy Planning and Research. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Richard Horne by telephone at 202-693-7880 (this is not a toll-free number) or by email at horne.richard@dol.gov.

SUPPLEMENTARY INFORMATION: I. Background: American Job Centers (AJCs), formerly called One-Stop Career Centers, were established under the Workforce Investment Act (WIA), to offer training referrals, career counseling, job listings, and similar employment-related services to help Americans find work and enhance their long-term economic security. Today, there are 1,751 comprehensive and 963 affiliate AJCs. By law, the AJC system must ensure that its programs, services, and facilities provide programmatic, communication, and physical accessibility to all qualified persons with disabilities (PWD) under Section 504 and Titles II and III of the Americans with Disabilities Act (ADA).¹ The level of accessibility of the AJC system for PWDs may be a factor in the employability of the 27 million Americans over 16 years old with disabilities. Therefore, it is important for policymakers to understand the level of accessibility and to identify ways to improve the accessibility of the AJC system for PWD.

¹ Blanck, P., Hill, E., Siegel, C.D., & Waterstone, M. (2009). Disability civil rights law and policy: Cases and materials. St. Paul, MN: West.

The Evaluation of the Accessibility of American Job Centers (AJC) for People with Disabilities (PWD), funded by the U.S. Department of Labor, Office of the Assistant Secretary for Policy, Chief Evaluation Office, will help policymakers and program administrators understand the level of accessibility of AJCs and identify ways to improve the accessibility for PWD. In addition to identifying the degree to which AJCs provide accessible services to PWD, the study will examine differences in the levels of accessibility by the type of accessibility required, such as physical, programmatic, and communication and the characteristics of AJCs (e.g., affiliate vs. comprehensive, or rural vs. urban) or the nature of AJC services provided (e.g., core, intensive, and training). This is not an audit for compliance with laws and regulations regarding accessibility for American Job Centers. Rather, the purpose of the study is to gather data to paint a broad picture about the degree to which American Job Centers as a whole are accessible to persons with disabilities.

This package requests clearance for (1) a survey of AJC Directors, (2) semi-structured interviews with AJC staff at 100 AJCs, (3) observations related to the accessibility of AJC activities and facilities at 100 AJCs and (4) focus groups with AJC customers with disabilities at 10 AJCs.

The survey will take place over a period of approximately three months. The survey will be administered to all 2,714 comprehensive and affiliate AJCs nationwide. The survey will be administered via the web and recipients will be notified about the survey by mail, with email reminders. Each survey will take about 40 minutes, on average, to complete, and an 80% response rate is expected.

All on-site data collection (i.e., interviews, observations and focus groups) will take place over a period of approximately four months. Interviews and observations will take place at approximately 100 comprehensive and affiliate AJCs nationwide. Between 4-5 staff members will be interviewed in each AJC and each interview will last 75 minutes, on average. Focus groups will involve approximately 8-10 customers in each group and reasonable accommodations for disabilities will be provided for all attending participants, as needed. Focus groups will last approximately 90 minutes and all participants will receive $25 for their attendance.

II. Desired Focus of Comments: Currently, the Department of Labor is soliciting comments concerning the above data collection for the Evaluation the Accessibility of American Job Centers for People with Disabilities. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions: At this time, the Department of Labor is requesting clearance to conduct (1) one survey of all comprehensive and affiliate AJC Directors, (2) semi-structured interviews and observations with staff from 100 American Job Centers (AJCs), and (3) focus groups with AJC customers with disabilities at 10 AJCs, for the Evaluation of the Accessibility of American Job Centers for People with Disabilities.

Type of review: New information collection request.

OMB Control Number: 1205-0NEW.

Affected Public: American Job Center Directors.

Frequency: One survey.

Total Responses: 2,171.

Average Time per Response: 40 minutes.

Estimated Total Burden Hours: 1,447 hours.

Average Annual Other Burden Cost: $0.

Affected Public: American Job Center Staff.

Frequency: 1 Interview.

Total Responses: 400.

Average Time per Response: 60-90 minutes.

Estimated Total Burden Hours: 450 hours.

Average Annual Other Burden Cost: $0.

Affected Public: PWD Customers of AJCs.

Frequency: 1 focus group.

Total Responses: 100.

Average Time per Response: 110 minutes.

Estimated Total Burden Hours: 183 hours.

Average Annual Other Burden Cost: $0.

Comments submitted in response to this request will be summarized and/or included in the request for Office of Management and Budget approval; they will also become a matter of public record.

James H. Moore, Jr.,
Deputy Assistant Secretary for Policy, U.S. Department of Labor.

[FR Doc. 2013-21505 Filed 9-4-13; 8:45 am]

BILLING CODE 4510-23-P